NATIONAL CAPITAL PLANNING COMMISSION

Public Comment on the Draft Federal Urban Design Element and the Draft Update to the Federal Preservation and Historic Features Element of the Comprehensive Plan for the National Capital: Federal Elements

AGENCY: National Capital Planning Commission.

ACTION: Notice of 90-day public comment period.

SUMMARY: The National Capital Planning Commission (NCPC), the Planning Commission for the Federal Government within the National Capital Region, intends to release for public comment a draft new Federal Urban Design Element and draft revisions to the Preservation and Historic Features Element of the Comprehensive Plan for the National Capital: Federal Elements. The Comprehensive Plan for the National Capital: Federal Elements addresses matters relating to Federal Properties and Federal Interests in the National Capital Region, and provides a decision-making framework for actions the NCPC takes on specific plans and proposals submitted by Federal government agencies for the NCPC review required by law. The new Federal Urban Design Element provides policies that will guide the design and management of federal buildings and properties so as to enhance their adjacent public realm. It will also provide a framework for federal actions related to enhancing the overall character of the District of Columbia and the National Capital Region. The Federal Preservation and Historic Features Element articulates policies that guide federal actions preserving Washington's historic character and providing better stewardship of historic resources. All interested parties are invited to submit written comment. The draft Federal Urban Design Element and draft revised Federal Preservation and Historic Features Element will be available online at http://www.ncpc.gov/compplan not later than November 5, 2012. Printed copies are available upon request from the contact person noted below.

Dates and Time: The public comment period begins on November, 5, 2012 and closes on Monday, February 4, 2012.

ADDRESSES: Mail written comments or hand deliver comments on the draft revisions to Comprehensive Plan Public Comment, National Capital Planning Commission, 401 9th Street NW., Suite 500, Washington, DC 20004.

FOR FURTHER INFORMATION CONTACT: David Zaidain at (202) 482-7230 or david.zaidain@ncpc.gov.

SUPPLEMENTARY INFORMATION:

Electronic Access and Filing Addresses

You may submit comments electronically at the public comment portal at http://www.ncpc.gov/compplan.

Authority: (40 U.S.C. 8721(e)(2)).

Dated: October 31, 2012.
Anne R. Schuyler,
General Counsel.

[FR Doc. 2012-26976 Filed 11-2-12; 8:45 am]

BILLING CODE 7502-02-P